DEPARTMENT OF THE INTERIOR

National Park Service

30-Day Notice of Submission to the Office of Management and Budget; Opportunity for Public Comment

AGENCY: The Department of the Interior; National Park Service.

ACTION: Notice and request for comments.

SUMMARY: Under the provisions of the Paperwork Reduction Act of 1995 (Pub. L. 104-13, 44 U.S.C. 3507) and 5 CFR part 1320, Reporting and Record keeping Requirements, the National Park Service (NPS) invites public comments on an extension of a currently approved collection of information (OMB No. 1024-0245).

DATES: Public comments on this Information Collection Request (ICR) will be accepted on or before July 25, 2007.

ADDRESSES: You may submit comments directly to the Desk Officer for the Department of the Interior (OMB number 1024-0245), Office of Information and Regulatory Affairs, OMB, by fax at 202/395-6566, or by electronic mail at oira_docket@omb.eop.gov. Please also send a copy of your comments to Lieutenant Dennis Maroney, Assistant Commander, Human Resource Office, United States Park Police, 1100 Ohio Drive, SW., Washington, DC 20024, via fax at 202/619-7479, or via e-mail at Dennis_Maroney@nps.gov.

FOR FURTHER INFORMATION CONTACT: Lieutenant Dennis Maroney, Assistant Commander Human Resources Office, United States Park Police (USPP), 1100 Ohio Drive, SW., Washington, DC 20024, via fax at 202/619-7479, or via e-mail at Dennis_Maroney@nps.gov, or via telephone at 202/619-7413. You are entitled to a copy of the entire ICR package free-of-charge.

Comments Received on the 60-Day Federal Register Notice: The NPS published the 60-Day Federal Register Notice to solicit comments on this ICR on April 16, 2007 (Vol. 72, pages 19019-19020). There were no public comments received as a result of publishing this 60-Day Federal Register Notice.

SUPPLEMENTARY INFORMATION:

Title: United States Park Police Personal History Statements Questionnaire.

Form Number: USPP Form 1.

OMB Number: 1024-0245.

Expiration Date: June 20, 2007.

Type of Request: Extension of a currently approved information collection.

Description of need: Title 5, Code of Federal Regulations, section 5.2; Title 5, United States Code, sections 1302, 1304, and 3301; sections 8(b), 8(c), and 9(c) of Executive Order 10450; Title 42, United States Code, section 2455; and Title 22, United States Code, sections 1434 and 2585, established investigative standards for all United States Government civilian and military personnel. The position of a Police Officer in the USPP is critical sensitive. The purpose of the USPP Personal History Statement Questionnaire is to collect detailed information that will be used principally as a basis for an investigation to determine suitable applicants for the position of a USPP Officer. This information has an impact on individuals that apply to the position of a USPP Officer. The NPS uses the information that is collected to hire adequately screened applicants for the position of a USPP Officer. The obligation to respond is required to obtain or retain benefits.

Comments are invited on: (1) the practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Frequency of Collection: Annually.

Description of Respondents: Individuals seeking employment to the position of a United States Park Police Officer.

Estimated average number of respondents: 600 per year.

Estimated average number of responses: 600 per year.

Frequency of response: Once per respondent.

Estimated average time burden per respondent: 8 hours per respondent.

Estimated total annual reporting burden: 4,800 hours per year.

Dated: June 18, 2007.
Leonard E. Stowe,
NPS, Information Collection Clearance Officer.

[FR Doc. 07-3093 Filed 06-22-07; 8:45 am]

BILLING CODE 4312-JU-M